NUCLEAR REGULATORY COMMISSION

[Docket No. 50-289; NRC-2018-0266]

Exelon Generation Company, LLC; Three Mile Island Nuclear Station, Unit 1

AGENCY: Nuclear Regulatory Commission.

ACTION: License amendment application; withdrawal by applicant.

SUMMARY: The U.S. Nuclear Regulatory Commission (NRC) has granted the request of Exelon Generation Company, LLC to withdraw its application dated September 20, 2018, for a proposed amendment to Renewed Facility Operating License No. DPR-50 for the Three Mile Island Nuclear Station, Unit 1. The proposed amendment would have revised Technical Specification 4.4.2.1, “Inservice Tendon Surveillance Requirements,” to add the words “except where an alternative, exemption, or relief has been authorized by the NRC” to allow NRC-approved exceptions.

DATES: The withdrawal of the proposed amendment takes effect on August 19, 2019.

ADDRESSES: Please refer to Docket ID NRC-2018-0266 when contacting the NRC about the availability of information regarding this document. You may obtain publicly-available information related to this document using any of the following methods:

• Federal Rulemaking Website: Go to https://www.regulations.gov and search for Docket ID NRC-2018-0266. Address questions about NRC docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Justin C. Poole, U.S. Nuclear Regulatory Commission, Washington DC 20555-0001; telephone: 301-415-2048, email: Justin.Poole@nrc.gov.

SUPPLEMENTARY INFORMATION:

The NRC has granted the request, dated June 17, 2019 (ADAMS Accession No. ML19169A031), of Exelon Generation Company, LLC (the licensee) to withdraw its application, dated September 20, 2018 (ADAMS Accession No. ML18263A199), for proposed amendment to Renewed Facility Operating License No. DPR-50 for the Three Mile Island Nuclear Station, Unit 1, located in Dauphin County, Pennsylvania.

The amendment would have revised Technical Specification 4.4.2.1, “Inservice Tendon Surveillance Requirements.” The amendment would have added the words “except where an alternative, exemption, or relief has been authorized by the NRC” to allow NRC-approved exceptions to the section 50.55a of title 10 of the Code of Federal Regulations requirements. Also, the amendment would have added a note to exempt from the requirements of Surveillance Requirement 4.0.1.

Exelon's September 20, 2018, request was noticed in the Federal Register on November 20, 2018 (83 FR 58613).

Dated at Rockville, Maryland, this 13th day of August, 2019.
For the Nuclear Regulatory Commission.
James G. Danna,
Chief, Plant Licensing Branch I, Division of Operating Reactor Licensing, Office of Nuclear Reactor Regulation.

[FR Doc. 2019-17684 Filed 8-16-19; 8:45 am]

BILLING CODE 7590-01-P